FEDERAL COMMUNICATIONS COMMISSION

47 CFR Parts 73 and 76

Radio Broadcast Services and Multichannel Video and Cable Television Service; Clarification Regarding Information Collection Requirements

AGENCY: Federal Communications Commission.

ACTION: Final rule; clarification.

SUMMARY: The Federal Communications Commission has published a number of requirements related to Radio Broadcast Services and Multichannel Video and Cable Television Service, which were determined to contain information collection requirements that were subject to OMB review. After further review, we have found OMB approval is not required. This document intends to provide clarification that these rules are effective and that it has been determined that these provisions are not subject to OMB review.

DATES: Effective September 28, 2010, the following regulations are no longer pending OMB approval for the sections listed:

73.6027—69 FR 69331, November 29, 2004.

76.5(ll)—61 FR 6137, February 16, 1996.

76.913(b)(1)—62 FR 6495, February 12, 1997.

76.924(e)(1)(iii) and (e)(2)(iii)—61 FR 9367, March 8, 1996.

76.925—60 FR 52119, October 5, 1995.

76.942(f)—60 FR 52120, October 5, 1995.

76.944(c)—60 FR 52121, October 5, 1995.

76.957—60 FR 52121, October 5, 1995.

76.1504(e)—61 FR 43176, August 26, 1996.

76.1511—61 FR 43177, August 21, 1996.

76.1512—61 FR 43177, August 21, 1996.

76.1514—61 FR 43176, August 21, 1996.

FOR FURTHER INFORMATION CONTACT: Shirley Suggs, (202) 418-1568, Media Bureau.

SUPPLEMENTARY INFORMATION: The Commission published several documents in the Federal Register identifying rules that required OMB approval. After further review, we have found OMB approval is not required. The affected CFR sections are as follows:

Marlene H. Dortch,
Secretary, Federal Communications Commission.

For the reasons stated in the preamble, and under the authority at 47 U.S.C. 154, 303, 334, 336 and 339; 47 U.S.C. 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572, and 573 * * *, the Federal Communications Commission has determined that the regulations at §§ 73.6027, 76.5(ll), 76.913(b)(1), 76.924(e)(1)(iii) and (e)(2)(iii), 76.925, 76.942(f), 76.944(c), 76.957, 76.1504(e), 76.1511, 76.1512, and 76.1514 are effective and do not contain information collection requirements that are subject to OMB approval.

[FR Doc. 2010-24203 Filed 9-27-10; 8:45 am]

BILLING CODE 6712-01-P